DEPARTMENT OF LABOR

Employment and Training Administration

[TA-W-50,631]

Garden State Tanning, Williamsport, MD; Notice of Termination of Investigation

Pursuant to section 221 of the Trade Act of 1974, as amended, an investigation was initiated on January 22, 2003 in response to a worker petition filed on behalf of workers at Garden State Tanning, Williamsport, Maryland.

The petitioner has requested that the petition be withdrawn. Consequently, the investigation has been terminated.

Signed at Washington, DC this 22nd day of April, 2003.
Richard Church,
Certifying Officer, Division of Trade Adjustment Assistance.

[FR Doc. 03-11546 Filed 5-8-03; 8:45 am]

BILLING CODE 4510-30-P